DEPARTMENT OF COMMERCE

International Trade Administration

[A-570-803]

Heavy Forged Hand Tools, Finished or Unfinished, With or Without Handles, From the People's Republic of China: Extension of Time Limit for Preliminary Results of New Shipper Antidumping Review

AGENCY: Import Administration, International Trade Administration, Department of Commerce.

ACTION: Notice of Extension of Time Limit for Preliminary Results of New Shipper Antidumping Review.

EFFECTIVE DATE: March 26, 2001.

FOR FURTHER INFORMATION CONTACT: Jeff Pedersen at (202) 482-4195 or Ron Trentham at (202) 482-6320, Office of AD/CVD Enforcement, Group II, Office 4, Import Administration, International Trade Administration, U.S. Department of Commerce, 14th Street and Constitution Ave., NW., Washington, DC 20230.

SUPPLEMENTARY INFORMATION:

The Applicable Statute

Unless otherwise indicated, all citations to the Tariff Act of 1930, as amended (the Act), are references to the provisions effective January 1, 1995, the effective date of the amendments made to the Act by the Uruguay Round Agreements Act. In addition, unless otherwise indicated, all citations to the Department's regulations are to 19 CFR part 351 (2000).

Background

On July 20, 2000, the Department received a request from Shandong Jinma Industrial Group Co., Ltd. to conduct a new shipper review of the antidumping order on heavy forged hand tools from the People's Republic of China. On October 6, 2000, the Department published its initiation of this new shipper review covering the period of February 1, 2000 through July 31, 2000 (65 FR 59824). The preliminary results are currently due no later than March 27, 2001.

Extension of Time Limit for Preliminary Results of Review

Section 351.214(i)(1) of the Department's regulations requires the Department to make a preliminary determination within 180 days after the date on which the new shipper review was initiated. However, if the Secretary concludes that a new shipper review is extraordinarily complicated, under § 351.214(i)(2) of the Department's regulations the Secretary may extend the 180-day period to 300 days.

We determine that this new shipper review is extraordinarily complicated. Therefore the Department is extending the time limit for completion of the preliminary results until no later than July 25, 2001. See Decision Memorandum from Thomas F. Futtner to Holly A. Kuga, dated concurrently with this notice, which is on file in the Central Records Unit, Room B-099 of the main Commerce building.

This extension is in accordance with section 751(a)(3)(A) of the Act, as amended, and § 351.214(i)(2) of the Department's regulations.

Dated: March 20, 2001.
Holly A. Kuga,
Acting Deputy Assistant Secretary for Import Administration.

[FR Doc. 01-7407 Filed 3-23-01; 8:45 am]

BILLING CODE 3510-DS-M